SURFACE TRANSPORTATION BOARD

[Docket No. FD 36736]

Youngstown & Southeastern Railroad, LLC—Trackage Rights Exemption—Ohio and Pennsylvania Railroad Company

The Youngstown & Southeastern Railroad, LLC (YS), a Class III common carrier railroad, has filed a verified notice of exemption under 49 CFR 1180.2(d)(7) for acquisition of overhead trackage rights over approximately 1.1 miles of rail line, known as the River Track, owned by Ohio and Pennsylvania Railroad Company (OHPA) between milepost 0.4 at Youngstown, Ohio, and milepost 1.5 in Lowellville, Ohio.

Youngstown & Southeastern Railroad Company, a YS predecessor, obtained overhead trackage rights over OHPA incidental to acquisition of certain rail lines between Youngstown and Darlington, Pennsylvania. According to the verified notice, the new overhead trackage rights on the River Track will formalize YS's interchange point with CSX Transportation, Inc. (CSXT) at CSXT's Lowellville Yard. The new rights derive from an amending agreement ¹ to an earlier trackage rights agreement governing YS's operations over two related segments of railroad, the Canfield Segment and the Struthers Segment.²

¹ Redacted versions of the trackage rights agreement and amending agreement were filed with the verified notice. Unredacted versions of the agreements were submitted to the Board under seal concurrently with a motion for protective order, which was granted in a decision served on April 23, 2024.

² According to the verified notice, the amending agreement refers to a rail customer, Lally Pipe, but only to provide that YS may serve that customer strictly for the account of (and as agent for) OHPA. YS states that it will have no rights independent of OHPA to serve Lally Pipe.

As a condition to this exemption, any employees affected by the acquisition of the trackage rights will be protected by the conditions imposed in Norfolk & Western Railway—Trackage Rights—Burlington Northern, Inc., 354 I.C.C. 605 (1978), as modified by Mendocino Coast Railway—Lease & Operate—California Western Railroad, 360 I.C.C. 653 (1980).

The transaction may be consummated on or after May 11, 2024, the effective date of the exemption. If the verified notice contains false or misleading information, the exemption is void ab initio. Petitions to revoke the exemption under 49 U.S.C. 10502(d) may be filed at any time. The filing of a petition to revoke will not automatically stay the effectiveness of the exemption. Petitions for stay must be filed no later than May 3, 2024 (at least seven days before the exemption becomes effective).

All pleadings, referring to Docket No. FD 36736, must be filed with the Surface Transportation Board via e-filing on the Board's website or in writing addressed to 395 E Street SW, Washington, DC 20423-0001. In addition, a copy of each pleading must be served on YS's representative, Robert A. Wimbish, Fletcher & Sippel LLC, 29 North Wacker Drive, Suite 800, Chicago, IL 60606.

According to YS, this action is categorically excluded from environmental review under 49 CFR 1105.6(c) and from historic preservation reporting requirements under 49 CFR 1105.8(b).

Board decisions and notices are available at www.stb.gov.

Decided: April 23, 2024.
By the Board, Mai T. Dinh, Director, Office of Proceedings.
Eden Besera,
Clearance Clerk.

[FR Doc. 2024-08976 Filed 4-25-24; 8:45 am]

BILLING CODE 4915-01-P